DEPARTMENT OF TRANSPORTATION

Federal Aviation Administration

Agency Information Collection Activities: Requests for Comments; Clearance of Renewed Approval of Information Collection: Medical Standards and Certification

AGENCY: Federal Aviation Administration (FAA), DOT.

ACTION: Notice and request for comments.

SUMMARY: In accordance with the Paperwork Reduction Act of 1995, FAA invites public comments about our intention to request the Office of Management and Budget (OMB) approval to renew and revise a previously approved information collection. The information collected is used to determine if applicants are medically qualified to perform the duties associated with the class of airman medical certificate sought. The FAA is announcing its intent to reduce the burden associated with this information collection in response to its implementation of section 2307 of Public Law 114-190. Section 2307 of Public Law 114-190 established a new voluntary program of physical examination and education requirements for certain pilots in command in lieu of those pilots holding a medical certificate.

DATES: Written comments should be submitted by February 27, 2017.

ADDRESSES: Send comments to the FAA at the following address: Ronda Thompson, Room 441, Federal Aviation Administration, ASP-110, 950 L'Enfant Plaza SW., Washington, DC 20024.

FOR FURTHER INFORMATION CONTACT: Ronda Thompson by email at: Ronda.Thompson@faa.gov.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0034.

Title: Medical Standards and Certification.

Form Numbers: FAA Forms 8500-7, 8500-8, 8500-14, 8500-20.

Type of Review: Revision of an information collection.

Background: The Federal Aviation Administration (FAA) Extension, Safety, and Security Act of 2016 (Pub. L. 114-190) (FESSA) was enacted on July 15, 2016. Section 2307 of FESSSA, medical certification of certain small aircraft pilots, directed the FAA to “issue or revise regulations to ensure that an individual may operate as pilot in command of a covered aircraft” if the pilot and aircraft meet certain prescribed conditions as outlined in FESSA. The FAA notes that the use of section 2307 by any eligible pilot is voluntary. Persons may elect to use these alternative pilot physical examination and education requirements or may continue to operate using any FAA medical certificate.

The FAA is publishing a final rule, Alternative Pilot Physical Examination and Education Requirements, to implement the provisions of section 2307 (RIN 2120-AK96).

Respondents: Approximately 198,847 (8500-8) form applicants.

Frequency: Information is collected on occasion.

Estimated Average Burden per Response: 3 minutes.

Estimated Total Annual Burden: 9,900 hours.

Issued in Washington, DC, on December 19, 2016.
Ronda L. Thompson,
FAA Information Collection Clearance Officer, Performance, Policy, and Records Management Branch, ASP-110.

[FR Doc. 2016-31233 Filed 12-23-16; 8:45 am]

BILLING CODE 4910-13-P